DEPARTMENT OF ENERGY

Proposed Agency Information Collection

AGENCY: U.S. Department of Energy.

ACTION: Notice and request for OMB review and comment.

SUMMARY: The Department of Energy (DOE) has submitted to the Office of Management and Budget (OMB) for clearance a proposal for collection of information under the provisions of the Paperwork Reduction Act of 1995. The proposed collection will enable DOE to have current knowledge of Federal employees and contractors conducting foreign travel to a non U.S. territory on the behalf of DOE. Information gathered will include dates of travel, destination, purpose, and after-hour contact information in case of emergency.

DATES: Comments regarding this collection must be received on or before 30 days after date of publication in the Federal Register. If you anticipate that you will be submitting comments, but find it difficult to do so within the period of time allowed by this notice, please advise the DOE Desk Officer at OMB of your intention to make a submission as soon as possible. The Desk Officer may be telephoned at 202-395-4650.

ADDRESSES: Written comments should be sent to the DOE Desk Officer, Office of Information and Regulatory Affairs, Office of Management and Budget, New Executive Office Building, Room 10102, 735 17th Street NW., Washington, DC 20503, and to Julie Squires by fax at (202) 586-0406 or by email at julie.squires@hq.doe.gov.

FOR FURTHER INFORMATION CONTACT: Requests for additional information or copies of the information collection instrument and instructions should be directed to Julie Squires at julie.squires@hq.doe.gov.

SUPPLEMENTARY INFORMATION: This information collection request contains:

(1) OMB No. 1910-5144.

(2) Information Collection Request Title: records, and secures approval of all foreign travel conducted by DOE federal employees and contractors. The system allows DOE to have full accountability of all travel and in cases of emergency DOE is able to quickly retrieve information as to who is traveling, where the individual is traveling, and the dates of travel. Information gathered is listed under three categories: (1) Traveler Information which requests traveler's name, passport information, site, position, and contact information, (2) General Trip Information which consists of estimated travel costs, and (3) Trip Itinerary Information which consists of destination, dates of travel, and purpose.

(3) Type of Respondents: DOE Federal employees and contractors traveling on behalf of DOE.

(4) Estimated Annual Number of Respondents 8,313.

(5) Estimated Annual Number of Burden Hours: 4,228.

(6) Estimated Annual Cost Burden: None.

Authority: DOE Order 551.1D (April 2, 2012), regarding “Official Foreign Travel.”

Issued in Washington, DC, on August 14, 2012.
Umeki G. Thorne,
Director, Office of Management, Office of International Travel and Exchange Visitor Programs.

[FR Doc. 2012-20840 Filed 8-23-12; 8:45 am]

BILLING CODE 6450-01-P